DEPARTMENT OF THE INTERIOR

Bureau of Land Management

[UT-910-04-1150-PH-24-1A]

Notice of Resource Advisory Council Meeting

AGENCY: Bureau of Land Management, Department of Interior.

ACTION: Notice of Utah Resource Advisory Council (RAC) meeting.

SUMMARY: In accordance with the Federal Land Policy and Management Act (FLPMA) and the Federal Advisory Committee Act of 1972 (FACA), the U.S. Department of the Interior, Bureau of Land Management (BLM) Utah Resource Advisory Council (RAC) will meet as indicated below.

DATES: A one-day meeting is scheduled for November 6, at the Sheraton Hotel, Seasons South Conference Room, 150 West 500 South, Salt Lake City, Utah. The meeting will begin at 8 a.m. and conclude at 5 p.m.

FOR FURTHER INFORMATION: Contact Sherry Foot, Special Programs Coordinator, Utah State Office, Bureau of Land Management, 324 South State Street, Salt Lake City, Utah, 84111; phone (801) 539-4195.

SUPPLEMENTARY INFORMATION: A one-day meeting is being held to welcome the new Resource Advisory Council (RAC) members; discuss reports from the raptor, OHV, and Sustaining Working Landscapes subgroups; and a briefing on the wilderness policy. From 4:15 p.m.—4:45 p.m. the public will have an opportunity for public comments. If you are unable to attend the meeting, written comments can be sent to the Bureau of Land Management, Attn: Sherry Foot, PO Box 451155, Salt Lake City Utah, 84145-0155.

All meetings are open to the public; however, transportation, lodging and meals are the responsibility of the participating public.

Dated: October 3, 2003;
Sally Wisely,
State Director.

[FR Doc. 03-25697 Filed 10-9-03; 8:45 am]

BILLING CODE 4310-DQ-M